NUCLEAR REGULATORY COMMISSION

[Docket No. 030-05235]

Notice of Availability of Environmental Assessment and Finding of No Significant Impact for License Amendment for the Exxon Mobil Research and Engineering Company's Facility in Paulsboro, NJ

AGENCY: Nuclear Regulatory Commission.

ACTION: Notice of availability.

FOR FURTHER INFORMATION CONTACT: Judy Joustra, Materials Security & Industrial Branch, Division of Nuclear Materials Safety, Region I, 475 Allendale Road, King of Prussia, Pennsylvania, 19406, telephone (610) 337-5355, fax (610) 337-5269, or by e-mail: JAJ@nrc.gov.

SUPPLEMENTARY INFORMATION:

I. Introduction

The Nuclear Regulatory Commission (NRC) is terminating Materials License No. 29-00505-02 issued to The Exxon Mobil Research and Engineering Company (Exxon) and authorizing release of its facility in Paulsboro, New Jersey for unrestricted use. NRC has prepared an Environmental Assessment (EA) in support of this action in accordance with the requirements of 10 CFR part 51. Based on the EA, the NRC has concluded that a Finding of No Significant Impact (FONSI) is appropriate. The license will be terminated following the publication of this notice.

II. EA Summary

The purpose of the action is to terminate the license and authorize the release of the licensee's Paulsboro, New Jersey facility for unrestricted use. Exxon has been authorized by NRC since November 1, 1956 to use radioactive materials for research and development purposes at the site. On February 10, 2004, Exxon requested that NRC release the facility for unrestricted use. Exxon has conducted surveys of the facility and provided information to the NRC to demonstrate that the site meets the license termination criteria in subpart E of 10 CFR part 20 for unrestricted use.

The NRC staff has prepared an EA in support of the license termination. The facility was remediated and surveyed prior to the licensee requesting the termination of the license. The NRC staff has reviewed the information and final status survey submitted by Exxon. Based on its review, the staff has determined that there are no additional remediation activities necessary to complete the proposed action. Therefore, the staff considered the impact of the residual radioactivity at the facility and concluded that since the residual radioactivity meets the requirements in subpart E of 10 CFR part 20, a Finding of No Significant Impact is appropriate.

III. Finding of No Significant Impact

The staff has prepared the EA (summarized above) in support of the license termination and release the facility for unrestricted use. The NRC staff has evaluated Exxon's request and the results of the surveys and has concluded that the completed action complies with subpart E of 10 CFR part 20. The staff has found that the environmental impacts from the action are bounded by the impacts evaluated by NUREG-1496, Volumes 1-3, “Generic Environmental Impact Statement in Support of Rulemaking on Radiological Criteria for License Termination of NRC-Licensed Facilities” (ML042310492, ML042320379, and ML042330385). On the basis of the EA, the NRC has concluded that the environmental impacts from the action are expected to be insignificant and has determined not to prepare an environmental impact statement for the action.

IV. Further Information

Documents related to this action, including the application for the license amendment and supporting documentation, are available electronically at NRC's Electronic Reading Room at http://www.nrc.gov/reading-rm/adams.html. From this site, you can access the NRC's Agencywide Document Access and Management System (ADAMS), which provides text and image files of NRC's public documents. The ADAMS accession numbers for the documents related to this Notice are: The Environmental Assessment (ML043130124), Letter dated February 10, 2004 requesting termination of the license (ML040630698), Letter dated May 13, 2004 providing additional information (ML041730600), Letter dated August 23, 2004 providing additional information (ML042450527), E-mail dated October 6, 2004 providing additional information (ML042870539), and Letter dated October 18, 2004 from New Jersey Department of Environmental Protection (ML042990034). Please note that on October 25, 2004, the NRC terminated public access to ADAMS and initiated an additional security review of publicly available documents to ensure that potentially sensitive information is removed from the ADAMS database accessible through the NRC's Web site. Interested members of the public may obtain copies of the referenced documents for review and/or copying by contacting the Public Document Room pending resumption of public access to ADAMS. The NRC Public Documents Room is located at NRC Headquarters in Rockville, MD, and can be contacted at (800) 397-4209, (301) 415-4737 or by “e-mail to: pdr@nrc.gov.”

These documents may also be viewed electronically on the public computers located at the NRC's PDR, O 1 F21, One White Flint North, 11555 Rockville Pike, Rockville, MD 20852. The PDR reproduction contractor will copy documents for a fee. The PDR is open from 7:45 a.m. to 4:15 p.m., Monday through Friday, except on Federal holidays.

Dated at King of Prussia, Pennsylvania this 9th day of November, 2004.
For the Nuclear Regulatory Commission.
John D. Kinneman,
Chief, Materials Security & Industrial Branch, Division of Nuclear Materials Safety Region I.

[FR Doc. 04-25461 Filed 11-16-04; 8:45 am]

BILLING CODE 7590-01-P